DEPARTMENT OF DEFENSE

Department of the Navy

Notice of Proposed Information Collection; Commander, Naval Sea Systems Command; Correction

AGENCY: Department of the Navy, DOD.

ACTION: Notice; correction.

SUMMARY: The Naval Sea Systems Command published a document in the Federal Register of October 11, 2002, concerning request for comments on a list of facilities available for the construction or repair of ships. The document contained incorrect telephone numbers and an incorrect address.

FOR FURTHER INFORMATION CONTACT: Sherrell Smith, (202) 781-1819.

Correction

In the Federal Register of October 11, 2002, in FR Doc. 02-25935, on page 63388, in the second column, correct the Address and For Further Information Contact captions to read:

ADDRESS: Send written comments and recommendations on the proposed information collection to Commander, Naval Sea Systems Command (SEA 04X13), 1333 Isaac Hull Ave SE Stop 4030, Washington Navy Yard, DC 20376-4030.

FOR FURTHER INFORMATION CONTACT: Sherrell Smith at (202) 781-1819 or Leonard Thompson at (202) 781-1832, respectively, to request additional information or to obtain a copy of the proposal and associated collection instruments.

Dated: October 22, 2002.
R.E. Vincent II,
Lieutenant Commander, Judge Advocate General's Corps, U.S. Navy, Federal Register Liaison Officer.

[FR Doc. 02-27671 Filed 10-30-02; 8:45 am]

BILLING CODE 3810-FF-P